DEPARTMENT OF COMMERCE

[052401A]

Submission for OMB Review; Comment Request

SUPPLEMENTARY INFORMATION: The Department of Commerce has submitted to the Office of Management and Budget (OMB) for clearance the following proposal for collection of information under the provisions of the Paperwork Reduction Act (44 U.S.C. Chapter 35).

Agency: National Oceanic and Atmospheric Administration (NOAA).

Title: North Carolina and Louisiana Commercial King and/or Spanish Mackerel Fishermen Pilot Economic Study.

Form Number(s): None.

OMB Approval Number: None.

Type of Request: Regular submission.

Burden Hours: 154.

Number of Respondents: 140.

Average Hours Per Response: 12 minutes per screening form, 5 minutes for a captain form when completed by an owner, 20 minutes for an owner form, 15 minutes for a captain form when the captain is not an owner, and 15 minutes for a trip questionnaire.

Needs and Uses: The North Carolina and Louisiana Commercial King and/or Spanish Mackerel Fishermen Pilot Economic Survey will consist of telephone screening followed by in-person interviews of commercial fishermen in North Carolina and Louisiana possessing Federal commercial mackerel fishing permits. The survey will provide NMFS with economic information to better estimate the effects of regulations proposed for the king and Spanish mackerel commercial fisheries. The survey will also provide a better basis for designing statistically-random surveys for other strata of the population of boats that engage in these and other fisheries throughout the southeast (coastal states of North Carolina to Texas). Monitoring of these fisheries is required under the Magnuson-Stevens Fishery Conservation and Management Act.

Affected Public: Business or other for-profit organizations.

Frequency: One-time, three times a year.

Respondent's Obligation: Voluntary.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: May 22, 2001
Madeleine Clayton,
Departmental Paperwork Clearance Officer, Office of the Chief Information Officer.

[FR Doc. 01-13680 Filed 5-30-01; 8:45 am]

BILLING CODE 3510-22-S